DEPARTMENT OF COMMERCE

National Oceanic and Atmospheric Administration

RIN 0648-XB47

Fishing Capacity Reduction Program for the Pacific Coast Groundfish Fishery

AGENCY: National Marine Fisheries Service (NMFS), National Oceanic and Atmospheric Administration, Commerce.

ACTION: Notice of fee rate adjustment.

SUMMARY: NMFS issues this notice to increase the fee rate for the Oregon pink shrimp fee-share fishery to repay the $2,228,845 sub-loan of the $35,662,471 reduction loan to finance the Pacific Coast groundfish fishing capacity reduction program.

DATES: The Pacific Coast groundfish program fee rate increase for Oregon pink shrimp will begin on September 5, 2007.

ADDRESSES: Send questions about this notice to Leo Erwin, Chief, Financial Services Division, National Marine Fisheries Service, 1315 East-West Highway, Silver Spring, MD 20910-3282.

FOR FURTHER INFORMATION CONTACT: Leo Erwin, (301) 713-2390.

SUPPLEMENTARY INFORMATION:

I. Background

Sections 312(b) through (e) of the Magnuson-Stevens Fishery Conservation and Management Act (16 U.S.C. 1861a(b)through (e)) general authorizes fishing capacity reduction programs. In particular, section 312(d) authorizes industry fee systems for repaying reduction loans which finance reduction program costs.

Subpart L of 50 CFR part 600 is the framework rule generally implementing section 312(b) through (e).

Sections 1111 and 1112 of the Merchant Marine Act, 1936 (46 App. U.S.C. 1279f and 1279g) generally authorizes reduction loans.

Enacted on February 20, 2003, section 212 of Division B, Title II, of Public Law 108-7 (section 212) specifically authorizes a fishing capacity reduction program for that portion of the limited entry trawl fishery under the Pacific Coast Groundfish Fishery Management Plan whose permits, excluding those registered to whiting catcher-processors are endorsed for trawl gear operation (reduction fishery).

The groundfish reduction program's objective was to reduce the number of vessels and permits endorsed for the operation of groundfish trawl gear. The program also involved corollary fishing capacity reduction in the California, Oregon, and Washington fisheries for Dungeness crab and pink shrimp (fee-share fisheries).

All post-reduction fish landings from the reduction fishery and the six fee-share fisheries are subject to the groundfish program's fee.

NMFS proposed the implementing notice on May 28, 2003 (68 FR 31653) and published the final notice on July 18, 2003 (68 FR 42613).

NMFS allocated the $35,662,471 reduction loan to the reduction fishery and to each of the six fee-share fisheries as follows:

1. Reduction fishery, $28,428,719; and

2. Fee-share fisheries:

a. California coastal Dungeness crab fishery, $2,334,334,

b. California pink shrimp fishery, $674,202,

c. Oregon coastal Dungeness crab fishery, $1,367,545,

d. Oregon pink shrimp fishery, $2,228,845,

e. Washington coastal Dungeness crab fishery, $369,426, and

f. Washington pink shrimp fishery, $259,400.

Each of these allocations became a reduction loan subamount repayable by fees from the applicable fishery.

NMFS published in the Federal Register on July 13, 2005 (70 FR 40225), the final rule to implement the industry fee system for repaying the groundfish program's reduction loan. The regulations implementing the program are located at § 600.1012 of 50 CFR part 600's subpart M.

On August 8, 2005, NMFS published in the Federal Register (70 FR 45695) a notice of the fee effective date and established September 8, 2005 as the effective date when fee collection and loan repayment began.

II. Purpose

The purpose of this notice is to adjust, in accordance with the framework rule's § 600.1013(b), the fee rate for the Oregon pink shrimp fee-share fishery. Section 600.1013(b) directs NMFS to recalculate the fee rate that will be reasonably necessary to ensure reduction loan repayment within the specified 30 year term.

NMFS has determined that the current fee rate of 3.75 percent for the Oregon pink shrimp fishery is inadequate to service the loan. Therefore, NMFS is increasing the fee rate to 4.70 percent which NMFS has determined is necessary to ensure timely loan repayment.

To provide more accessible services, streamline collections, and save taxpayer dollars, fish buyers may disburse collected fee deposits to NMFS by using a secure Federal system on the Internet known as Pay.gov. Pay.gov enables fish buyers to use their checking accounts to electronically disburse their collected fee deposits to NMFS. Fish buyers who have access to the Internet should consider using this quick and easy collected fee disbursement method. Fish buyers may access Pay.gov by going directly to Pay.gov's Federal website at: http://www.pay.gov/paygov/.

Fish buyers who do not have access to the Internet or who simply do not wish to use the Pay.gov electronic system, may continue to disburse their collected fee deposits to us by sending their checks to our lockbox. Our lockbox's address is:

NOAA Fisheries Pacific Coast Groundfish Buyback

P O Box 979059

St. Louis, MO 63197 9000

Fish buyers must not forget to include with their disbursements the fee collection report applicable to each disbursement. The fee collection report tells NMFS how much of the disbursement it must apply to the reduction fishery and six fee share fisheries subamounts. Fish buyers using Pay.gov will find an electronic fee collection report form to receive information and accompany electronic disbursements. Fish buyers who do not use Pay.gov must include a hard copy fee collection report with each of their disbursements. Fish buyers not using Pay.gov may also access the NMFS website for an Excel spreadsheet version of the fee collection report at: http://www.nmfs.noaa.gov/mb/financial_services/buyback.htm.

III. Notice

The new fee rate for the Oregon pink shrimp fishery will begin on September 5, 2007].

From and after this date, all groundfish program fish sellers paying fees on the Oregon pink shrimp fee-share fishery shall begin paying groundfish program fees at the revised rate.

From and after this date, all fees received by NMFS for the Oregon pink shrimp fee-share fishery shall be subject to the new fee rates regardless of the applicable fee month.

Fee collection and submission shall follow previously established methods in § 600.1013 of the framework rule and in the final fee rule published in the Federal Register on July 13, 2005 (70 FR 40225).

The revised fees applicable to the groundfish program's reduction fishery and to each of its six fee-share fishery are as follows:

FISHERY | CURRENT FEE RATE | NEW FEE RATE
Groundfish | 5.00% | 5.00%
CA Coastal Dungeness Crab | 1.24% | 1.24%
CA Pink Shrimp | 5.00% | 5.00%
OR Coastal Dungeness Crab | 0.55% | 0.55%
OR Pink Shrimp | 3.75% | 4.70%
WA Coastal Dungeness Crab | 0.16% | 0.16%
WA Pink Shrimp | 1.50% | 1.50%

Authority: The authority for this action is Pub. L. 107 206, Pub. L. 108 7, 16 U.S.C. 1861a (b) through (e), and 50 CFR 600.1000 et seq.

Dated: July 31, 2007.
John Oliver,
Deputy Assistant Administrator for Operations, National Marine Fisheries Service.

[FR Doc. E7-15207 Filed 8-3-07; 8:45 am]

BILLING CODE 3510-22-S

>